DEPARTMENT OF THE INTERIOR

National Park Service

Notice of Availability of Draft Director's Order #47 Concerning Soundscape Preservation and Noise Management

AGENCY: National Park Service, Interior.

ACTION: Notice of availability.

SUMMARY: The National Park Service (NPS) is updating its current system of internal instructions. When these documents contain new policy or procedural requirements that may affect parties outside the NPS, this information is being made available for public review and comment. Draft Director's Order #47 establishes comprehensive operational policies and requirements to guide NPS soundscape preservation and noise management.

DATES: Written comments will be accepted until May 8, 2000.

ADDRESSES: Draft Director's Order #47 is available on the Internet at http://www.nps.gov/refdesk/DOrders/index.htm. Requests for copies and written comments should be sent to Wes Henry, National Park Service, Ranger Activities Division, 1849 C Street, NW., Room 7418, Washington, D.C. 20240.

FOR FURTHER INFORMATION CONTACT: Bill Schmidt at 202/501-9269.

SUPPLEMENTARY INFORMATION: The NPS is revising its operational policies and procedures to facilitate, to the fullest extent practicable, the protection, maintenance, or restoration of the natural soundscapes associated with units of the national park system. Natural sounds are vital to the natural function of many parks, and may provide valuable indicators of the health of various ecosystems. The natural sound environment is recognized as one of the resources found in parks, and is highly valued by most park visitors. Increasingly, even those parks that appear as they did in historical context no longer sound the way they once did. Natural sounds are slowly and inexorably being masked or obscured by a wide variety of human activities. Soundscape preservation and noise management is one dimension of the complex problem the NPS faces in preserving park resources unimpaired while providing appropriate enjoyment for current and future generations.

Dated: March 30, 2000.
Maureen Finnerty,
Associate Director, Park Operations and Education.

[FR Doc. 00-8613 Filed 4-6-00; 8:45 am]

BILLING CODE 4310-70-U